DEPARTMENT OF VETERANS AFFAIRS

Advisory Committee: VA National Academic Affiliations Council Notice of Meeting

The Department of Veterans Affairs (VA) gives notice under the Federal Advisory Committee Act that the VA National Academic Affiliations Council (NAAC) will meet via conference call on September 12, 2017, from 11:00 a.m. to 1:00 p.m. EST. The meeting is open to the public.

The purpose of the Council is to advise the Secretary on matters affecting partnerships between VA and its academic affiliates.

On September 12, 2017, the Council will explore current regulatory proposals to limit the duration of administrative leave available to Federal employees and the possible impact on VA's educational mission; discuss the prohibition on VA employees engaging in teaching activities with for-profit educational institutions; prioritize previous Council recommendations for renewed policy focus; and receive updates on: VA's graduate medical education expansion initiative, the NAAC's Diversity and Inclusion Subcommittee, and VA's August 2017 Health Professions Education Summit in Iron Mountain, MI. The Council will receive public comments from 12:45 p.m. to 1:00 p.m. EST.

Interested persons may attend and/or present oral statements to the Council. The dial in number to attend the conference call is: 1-800-767-1750. At the prompt, enter access code 45206 then press #. Individuals seeking to present oral statements are invited to submit a 1-2 page summary of their comments at the time of the meeting for inclusion in the official meeting record. Oral presentations will be limited to five minutes or less, depending on the number of participants. Additionally, interested parties may also provide written comments for review by the Council prior to the meeting or at any time, via email to Steve.Trynosky@va.gov, or by mail to Stephen K. Trynosky J.D., M.P.H., M.M.A.S., Designated Federal Officer, Office of Academic Affiliations (10A2D), 810 Vermont Avenue NW., Washington, DC 20420. Any member of the public wishing to participate or seeking additional information should contact Mr. Trynosky via email or by phone at (202) 461-6723.

Dated: August 11, 2017.
Jelessa M. Burney,
Federal Advisory Committee Management Officer.

[FR Doc. 2017-17294 Filed 8-15-17; 8:45 am]

BILLING CODE 8320-01-P